SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes one new information collection, and revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, OLCA, Attn: Reports Clearance Director, 3100 West High Rise, 6401 Security Blvd., Baltimore, MD 21235, Fax: 410-966-2830, Email address: OR.Reports.Clearance@ssa.gov.

I. The information collections below are pending at SSA. SSA will submit them to OMB within 60 days from the date of this notice. To be sure we consider your comments, we must receive them no later than April 11, 2014. Individuals can obtain copies of the collection instruments by writing to the above email address.

1. Promoting Readiness of Minors in SSI (PROMISE) Evaluation—0960-NEW.

Background

The Promoting Readiness of Minors in SSI (PROMISE) demonstration pursues positive outcomes for children with disabilities who receive Supplemental Security Income (SSI) and their families by reducing dependency on SSI. The Department of Education (ED) awarded six cooperative agreements to states to improve the provision and coordination of services and support for children with disabilities who receive SSI and their families to achieve improved education and employment outcomes. ED awarded PROMISE funds to five single-state projects, and to one six-state consortium.¹ With support from the Department of Labor (DOL) and the Department of Health and Human Services (HHS), SSA will evaluate the six PROMISE projects. SSA contracted with Mathematica Policy Research to conduct the evaluation.

¹ The six-state consortium project goes by the name Achieving Success by Promoting Readiness for Education and Employment (ASPIRE) rather than by PROMISE.

Under PROMISE, targeted outcomes for youth include an enhanced sense of self-determination; achievement of secondary and post-secondary educational credentials; an attainment of early work experiences culminating with competitive employment in an integrated setting; and long-term reduction in reliance on SSI. Outcomes of interest for families include heightened expectations for and support of the long-term self-sufficiency of their youth; parent or guardian attainment of education and training credentials; and increases in earnings and total income. To achieve these outcomes, we expect the PROMISE projects to make better use of existing resources by improving service coordination among multiple state and local agencies and programs.

ED, SSA, DOL, and HHS intend the PROMISE projects to address key limitations in the existing service system for youth with disabilities. By intervening early in the lives of these young people, at ages 14-16, the projects will engage the youth and their families well before critical decisions regarding the age 18 redetermination are upon them. We expect the required partnerships among the various state and Federal agencies that serve youth with disabilities to result in improved integration of services and fewer dropped handoffs as youth move from one agency to another. By requiring the programs to engage and serve families and provide youth with paid work experiences, the initiative is mandating the adoption of critical best practices in promoting the independence of youth with disabilities.

Project Description

SSA is requesting clearance for the collection of data needed to implement and evaluate PROMISE. The evaluation will provide empirical evidence on the impact of the intervention for youth and their families in several critical areas, including: (1) Improved educational attainment; (2) increased employment skills, experience, and earnings; and (3) long-term reduction in use of public benefits. We will base the PROMISE evaluation on a rigorous design that will entail the random assignment of approximately 2,000 youth in each of the six projects to treatment or control groups (12,000 total). Youth in the treatment groups will be eligible for enhanced services from the demonstration programs, whereas youth in the control groups will be eligible only for those services already available in their communities independent of the interventions.

The evaluation will assess the effect of PROMISE services on educational attainment, employment, earnings, and reduced receipt of disability payments. The three components of this evaluation include:

• The process analysis, which will document program models, assess the relationships among the partner organizations, document whether the programs are implemented as planned, identify features of the programs that may account for their impacts on youth and families, and identify lessons for future programs with similar objectives.

• The impact analysis, which will determine whether youth and families in the treatment groups receive more services than their counterparts in the control groups. It will also determine whether treatment group members have better results than control group members with respect to the targeted outcomes noted above.

• The cost-benefit analysis, which will assess whether the benefits of PROMISE, including increases in employment and reductions in benefit receipt, are large enough to justify its costs. We will conduct this assessment from a range of perspectives, including those of the participants, state and Federal governments, SSA, and society as a whole.

SSA planned several data collection efforts for the evaluation. These include: (1) follow-up interviews with youth and their parent or guardian 18 months and 5 years after enrollment; (2) phone and in-person interviews with local program administrators, program supervisors, and service delivery staff at two points in time over the course of the demonstration; (3) two rounds of focus groups with participating youth in the treatment group; (4) two rounds of focus groups with parents or guardians of participating youth; and (5) collection of administrative data.

At this time, SSA requests clearance only for the interviews we will conduct with program staff and the focus group discussions we will conduct with youth and parents or guardians. We will conduct these interviews and group discussions twice: once in 2014, and once in 2016. SSA will request clearance for the 18-month and 5-year survey interviews in a future submission. The respondents are PROMISE program staff, the youth participants in the PROMISE program, and the parents or guardians of the youth participants.

Type of Request: This is a new information collection.

2014 Interviews and Focus Group Discussions
Modality of completion | Number of responses | Frequency of response | Average burden per response (minutes) | Estimated total annual burden (hours)
Staff Interviews with Administrators or Directors | 75 | 1 | 66 | 83
Staff Interviews with PROMISE Project Staff | 145 | 1 | 66 | 160
Youth Focus Groups—Non-participants | 320 | 1 | 5 | 27
Youth Focus Groups—Participants | 80 | 1 | 100 | 133
Parents or Guardian Focus Groups—Non-participants | 320 | 1 | 5 | 27
Parents or Guardian Focus Groups—Participants | 80 | 1 | 100 | 133
Totals | 1,020 |  |  | 563

2016 Interviews and Focus Group Discussions
Modality of completion | Number of responses | Frequency of response | Average burden per response (minutes) | Estimated total annual burden (hours)
Staff Interviews with Administrators or Directors | 75 | 1 | 66 | 83
Staff Interviews with PROMISE Project Staff | 145 | 1 | 66 | 160
Youth Focus Groups—Non-participants | 320 | 1 | 5 | 27
Youth Focus Groups—Participants | 80 | 1 | 100 | 133
Parents or Guardian Focus Groups—Non-participants | 320 | 1 | 5 | 27
Parents or Guardian Focus Groups—Participants | 80 | 1 | 100 | 133
Totals | 1,020 |  |  | 563
Grand Total | 2,040 |  |  | 1,126

2. Request for Social Security Earnings Information—20 CFR 404.810 and 401.100—0960-0525. The Social Security Act permits wage earners, or their authorized representative, to request Social Security earnings information from SSA using Form SSA-7050-F4. SSA uses the information to verify the requestor's right to access the information and to produce the earnings statement. The respondents are wage earners and their authorized representatives.

Type of Request: Revision of an OMB-approved information collection.

Modality of completion | Number of respondents | Frequency of response | Average burden per response (minutes) | Estimated total annual burden (hours)
SSA-7050-F4 | 66,800 | 1 | 11 | 12,247

3. Request for Medical Treatment in an SSA Employee Health Facility: Patient Self-Administered or Staff Administered Care—0960-0772. SSA operates onsite Employee Health Clinics (EHC) in eight different states. These clinics provide health care for all SSA employees including treatments of personal medical conditions when authorized through a physician. Form SSA-5072 is the employee's personal physician's order form. The information we collect on Form SSA-5072 gives the EHC nurses the guidance they need by law to perform certain medical procedures and to administer prescription medications such as allergy immunotherapy. In addition, the information allows the SSA Medical Officer to determine whether the treatment can be administered safely and appropriately in the SSA EHCs. Respondents are physicians of SSA employees who need to have medical treatment in an SSA EHC.

Type of Request: Revision of an OMB-approved information collection.

Modality of completion | Number of respondents | Frequency of response | Number of responses | Average burden per response (minutes) | Estimated total annual burden (hours)
SSA-5072 Annually | 25 | 1 | 25 | 5 | 2
SSA-5072 Bi-Annually | 75 | 2 | 150 | 5 | 13
Totals | 100 |  | 175 |  | 15

II. SSA submitted the information collection below to OMB for clearance. Your comments regarding the information collection would be most useful if OMB and SSA receive them 30 days from the date of this publication. To be sure we consider your comments, we must receive them no later than March 12, 2014. Individuals can obtain copies of the OMB clearance packages by writing to OR.Reports.Clearance@ssa.gov.

Petition to Obtain Approval of a Fee for Representing a Claimant Before the Social Security Administration—20 CFR 404.1720 and 404.1725; 20 CFR 416.1520 and 416.1525—0960-0104. SSA attorney and non-attorney claimant representatives use Form SSA-1560-U4 to petition SSA for authorization to charge and collect a fee. Claimants may also use the form to agree with or contest the requested fee amount or other information the representative provides on the form. SSA officials use the form to determine a reasonable fee amount representatives may charge for their services. The respondents are attorneys and non-attorneys who represent Social Security claimants and their claimants.

Type of Request: Revision of an OMB-approved information collection.

Modality of completion | Number of respondents | Frequency of response | Average burden per response (minutes) | Estimated total annual burden (hours)
SSA-1560-U4 | 48,110 | 1 | 30 | 24,055

Dated: February 5, 2014.
Faye Lipsky,
Reports Clearance Director, Social Security Administration.

[FR Doc. 2014-02776 Filed 2-7-14; 8:45 am]

BILLING CODE 4191-02-P